CORPORATION FOR NATIONAL AND COMMUNITY SERVICE

Agency Information Collection Activities; Comment Request; Schools of National Service Commitment Form

AGENCY: Corporation for National and Community Service.

ACTION: Notice of information collection; request for comment.

SUMMARY: In accordance with the Paperwork Reduction Act of 1995, the Corporation for National and Community Service (operating as AmeriCorps) is proposing to revise an information collection.

DATES: Written comments must be submitted to the individual and office listed in the ADDRESSES section by February 10, 2025.

ADDRESSES: You may submit comments, identified by the title of the information collection activity, by any of the following methods:

(1) Electronically through www.regulations.gov (preferred method).

(2) By mail sent to: AmeriCorps, Attention Emily Smith, 250 E Street SW, Washington, DC 20525.

(3) By hand delivery or by courier to the AmeriCorps mailroom at the mail address given in paragraph (2) above, between 9 a.m. and 4 p.m. Eastern Time, Monday through Friday, except Federal holidays.

Comments submitted in response to this notice may be made available to the public through regulations.gov. For this reason, please do not include in your comments information of a confidential nature, such as sensitive personal information or proprietary information. If you send an email comment, your email address will be automatically captured and included as part of the comment that is placed in the public docket and made available on the internet. Please note that responses to this public comment request containing any routine notice about the confidentiality of the communication will be treated as public comment that may be made available to the public, notwithstanding the inclusion of the routine notice.

FOR FURTHER INFORMATION CONTACT: Emily Smith, (202) 391-1393, or by email at emsmith@americorps.gov.

SUPPLEMENTARY INFORMATION:

Title of Collection: Schools of National Service Commitment Form.

OMB Control Number: 3045-0143. Type of Review: Revision.

Respondents/Affected Public: Businesses and Organizations.

Total Estimated Number of Annual Responses: 200.

Total Estimated Number of Annual Burden Hours: 100.

Abstract: The Schools of National Service initiative, formerly the Segal Education Award Matching Program, helps higher education and post-secondary institutions connect with AmeriCorps alumni. To qualify as a School of National Service, the institution must complete a commitment form, committing to provide one or more incentives to AmeriCorps members and alumni seeking to attend their institution. This collection allows AmeriCorps and the institution to enhance the educational opportunities available to AmeriCorps alumni because of their service. AmeriCorps is seeking to revise the commitment form to add checkbox options for career and technical education (CTE) and other program types the institution may offer; add checkbox options for whether programs are offered online, in person, or both; and add a field for the institution to indicate whether it offers benefits to senior citizens and at what age eligibility begins. The revision would also delete the entry for the percentage of education award that the institution will match for AmeriCorps alumni it accepts for admission to the institution. AmeriCorps also seeks to continue using the currently approved information collection until the revised information collection is approved by OMB. The currently approved information collection is due to expire on March 31, 2025.

Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose, or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. All written comments will be available for public inspection on regulations.gov.

Rhonda Taylor,
Director, Partnerships & Program Engagement.

[FR Doc. 2024-29209 Filed 12-11-24; 8:45 am]

BILLING CODE 6050-28-P